DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Alabama: Mobile (FEMA Docket No.: B-2268). | City of Mobile (22-04-0855P). | The Honorable William Stimpson, Mayor, City of Mobile, P.O. Box 1827, Mobile, AL 36633. | City Clerk's Office, 205 Government Street, Mobile, AL 36633. | Nov. 12, 2022 | 015007
Arkansas: Garland (FEMA Docket No.: B-2268). | City of Hot Springs (22-06-0650P). | The Honorable Pat McCabe, Mayor, City of Hot Springs, 133 Convention Boulevard, Hot Springs, AR 71901. | Garland County Library, 1427 Malvern Avenue, Hot Springs, AR 71901. | Nov. 21, 2022 | 050084
Colorado:
Arapahoe (FEMA Docket No.: B-2259). | Unincorporated areas of Arapahoe County (21-08-0286P). | The Honorable Nancy Jackson, Chair, Arapahoe County Board of Commissioners, 5334 South Prince Street, Littleton, CO 80120. | Arapahoe County Public Works and Development Department, 6924 South Lima Street, Centennial, CO 80112. | Nov. 14, 2022 | 080011
Broomfield (FEMA Docket No.: B-2274). | City and County of Broomfield (21-08-0472P). | The Honorable Guyleen Castriotta, Mayor, City and County of Broomfield, 1 DesCombes Drive, Broomfield, CO 80020. | Engineering Department, 1 DesCombes Drive, Broomfield, CO 80020. | Nov. 14, 2022 | 085073
Connecticut: New Haven (FEMA Docket No.: B-2274). | City of New Haven (22-01-0224P). | The Honorable Justin Elicker, Mayor, City of New Haven, 165 State Street, New Haven, CT 06510. | Planning Department, 165 State Street, New Haven, CT 06510. | Nov. 14, 2022 | 090084
Florida:
Alachua (FEMA Docket No.: B-2259). | Unincorporated areas of Alachua County (22-04-1999P). | The Honorable Marihelen Wheeler, Chair, Alachua County Board of Commissioners, 12 Southeast 1st Street, Gainesville, FL 32601. | Alachua County Public Works Department, 5620 Northwest 120th Lane, Gainesville, FL 32653. | Nov. 2, 2022 | 120001
Broward (FEMA Docket No.: B-2259). | City of Lighthouse Point (22-04-0733P). | The Honorable Kyle Van Buskirk, Mayor, City of Lighthouse Point, 2200 Northeast 38th Street, Lighthouse Point, FL 33064. | Building Department, 3701 Northeast 22nd Avenue, Lighthouse Point, FL 33064. | Nov. 2, 2022 | 125125
Collier (FEMA Docket No.: B-2259). | City of Naples (22-04-3060P). | The Honorable Teresa Heitmann, Mayor, City of Naples, 735 8th Street South, Naples, FL 34102. | Building Department, 295 Riverside Circle, Naples, FL 34102. | Nov. 7, 2022 | 125130
Hillsborough (FEMA Docket No.: B-2268). | Unincorporated areas of Hillsborough County (21-04-3149P). | Bonnie Wise, Hillsborough County Administrator, 601 East Kennedy Boulevard, 26th Floor, Tampa, FL 33602. | Hillsborough County Center, 601 East Kennedy Boulevard, 22nd Floor, Tampa, FL 33602. | Nov. 21, 2022 | 120112
Lee (FEMA Docket No.: B-2259). | Unincorporated areas of Lee County (22-04-1388P). | Roger Desjarlais, Manager, Lee County, 2115 2nd Street, Fort Myers, FL 33901. | Lee County Building Department, 1500 Monroe Street, Fort Myers, FL 33901. | Nov. 4, 2022 | 125124
Monroe (FEMA Docket No.: B-2268). | Unincorporated areas of Monroe County (22-04-2673P). | The Honorable David Rice, Mayor, Monroe County Board of Commissioners, 9400 Overseas Highway, Suite 210, Marathon, FL 33050. | Monroe County Building Department, 2798 Overseas Highways, Suite 300, Marathon, FL 33050. | Nov. 21, 2022 | 125129
Monroe (FEMA Docket No.: B-2274). | Village of Islamorada (22-04-3158P). | The Honorable Pete Bacheler, Mayor, Village of Islamorada, 86800 Overseas Highway, Islamorada, FL 33036. | Building Department, 86800 Overseas Highway, Islamorada, FL 33036. | Nov. 14, 2022 | 120424
Osceola (FEMA Docket No.: B-2259). | City of St. Cloud (21-04-4346P). | Bill Sturgeon, Manager, City of St. Cloud, 1300 9th Street, St. Cloud, FL 34769. | Building Department, 1300 9th Street, St. Cloud, FL 34769. | Nov. 4, 2022 | 120191
Osceola (FEMA Docket No.: B-2259). | Unincorporated areas of Osceola County (21-04-4346P). | Don Fisher, Manager, Osceola County, 1 Courthouse Square, Suite 4700, Kissimmee, FL34741. | Osceola County Public Works Department, 1 Courthouse Square, Suite 3100, Kissimmee, FL 34741. | Nov. 4, 2022 | 120189
Osceola (FEMA Docket No.: B-2274). | Unincorporated areas of Osceola County (21-04-6031P). | Don Fisher, Manager, Osceola County, 1 Courthouse Square, Suite 4700, Kissimmee, FL 34741. | Osceola County Public Works Department, 1 Courthouse Square, Suite 3100, Kissimmee, FL 34741. | Nov. 18, 2022 | 120189
Osceola (FEMA Docket No.: B-2274). | Unincorporated areas of Osceola County (22-04-3663P). | Don Fisher, Manager, Osceola County, 1 Courthouse Square, Suite 4700, Kissimmee, FL 34741. | Osceola County Public Works Department, 1 Courthouse Square, Suite 3100, Kissimmee, FL 34741. | Nov. 18, 2022 | 120189
Georgia: Gwinnett (FEMA Docket No.: B-2268). | Unincorporated areas of Gwinnett County (21-04-4015P). | The Honorable Nicole L. Hendrickson, Chair, Gwinnett County Board of Commissioners, 75 Langley Drive, Lawrenceville, GA 30046. | Gwinnett County Department of Planning and Development, 446 West Crogan Street, Suite 300, Lawrenceville, GA 30046. | Nov. 3, 2022 | 130322
Massachusetts: Plymouth (FEMA Docket No.: B-2268). | Town of Marion (22-01-0616P). | The Honorable Randy L. Parker, Chair, Town of Marion Board of Selectmen, 2 Spring Street, Marion, MA 02738. | Building Department, 2 Spring Street, Marion, MA 02738. | Nov. 21, 2022 | 255213
North Carolina:
Cumberland FEMA Docket No.: B-2278). | City of Fayetteville (20-04-4160P). | The Honorable Mitch Colvin, Mayor, City of Fayetteville, 433 Hay Street, Fayetteville, NC 28301. | Zoning Department, 433 Hay Street, Fayetteville, NC 28301. | Nov. 24, 2022 | 370077
Cumberland (FEMA Docket No.: B-2278). | Unincorporated areas of Cumberland County (20-04-4160P). | The Honorable Glenn Adams, Chair, Cumberland County Board of Commissioners, 117 Dick Street, Suite 561, Fayetteville, NC 28301. | Cumberland County Planning Department, 130 Gillespie Street, Fayetteville, NC 28301. | Nov. 24, 2022 | 370076
North Dakota: Cass (FEMA Docket No.: B-2259). | City of Arthur (21-08-1023P). | The Honorable Greg Nelson, Mayor, City of Arthur, P.O. Box 161, Arthur, ND 58006. | City Hall, 325 1st Street, Arthur, ND 58006. | Oct. 6, 2022 | 380156
Tennessee: Williamson (FEMA Docket No.: B-2274). | City of Brentwood (22-04-1349P). | The Honorable Rhea E. Little, Mayor, City of Brentwood, 5211 Maryland Way, Brentwood, TN 37027. | City Hall, 5211 Maryland Way, Brentwood, TN 37027. | Nov. 14, 2022 | 470205
Texas:
Bexar (FEMA Docket No.: B-2274). | City of San Antonio (22-06-0410P). | The Honorable Ron Nirenberg, Mayor, City of San Antonio, P.O. Box 839966, San Antonio, TX 78283. | Transportation and Capitol Improvements Department, Storm Water Division, 1901 South Alamo Street, San Antonio, TX 78204. | Nov. 14, 2022 | 480045
Galveston (FEMA Docket No.: B-2274). | City of League City (21-06-2885P). | The Honorable Pat Hallisey, Mayor, City of League City, 300 West Walker Street, League City, TX 77573. | Engineering Department, 500 West Walker Street, League City, TX 77573. | Nov. 21, 2022 | 485488
Tarrant (FEMA Docket No.: B-2259). | City of Arlington (22-06-0336P). | The Honorable Jim Ross, Mayor, City of Arlington, P.O. Box 90231, Arlington, TX 76004. | Public Works and Transportation Department, 101 West Abram Street, Arlington, TX 76010. | Nov. 7, 2022 | 485454
Tarrant (FEMA Docket No.: B-2259). | City of Fort Worth (22-06-0336P). | The Honorable Mattie Parker, Mayor, City of Fort Worth, 200 Texas Street, Fort Worth, TX 76102. | Department of Transportation and Public Works, Engineering Vault and Map Repository, 200 Texas Street, Fort Worth, TX 76102. | Nov. 7, 2022 | 480596
Tarrant (FEMA Docket No.: B-2259). | City of Fort Worth (22-06-0844P). | The Honorable Mattie Parker, Mayor, City of Fort Worth, 200 Texas Street, Fort Worth, TX 76102. | Department of Transportation and Public Works, Engineering Vault and Map Repository, 200 Texas Street, Fort Worth, TX 76102. | Nov. 7, 2022 | 480596
Tarrant (FEMA Docket No.: B-2259). | City of Grand Prairie (21-06-2937P). | The Honorable Ron Jensen, Mayor, City of Grand Prairie, P.O. Box 534045, Grand Prairie, TX 75053. | City Hall, 205 West Church Street, Grand Prairie, TX 75050. | Nov. 14, 2022 | 485472
Tarrant (FEMA Docket No.: B-2259). | Unincorporated areas of Tarrant County (22-06-0844P). | The Honorable B. Glen Whitley, Tarrant County Judge, 100 East Weatherford Street, Fort Worth, TX 76196. | Tarrant County Administration Building, 100 East Weatherford Street, Fort Worth, TX 76196. | Nov. 7, 2022 | 480582
Utah: Salt Lake (FEMA Docket No.: B-2274). | City of Herriman City (22-08-0046P). | Nathan Cherpeski, Manager, City of Herriman City, 5355 West Herriman Main Street, Herriman, UT 84096. | GIS Department, 5355 West Herriman Main Street, Herriman, UT 84096. | Nov. 21, 2022 | 490252

[FR Doc. 2022-26877 Filed 12-9-22; 8:45 am]

BILLING CODE 9110-12-P